DEPARTMENT OF STATE

[Public Notice: 8711]

Notice of Receipt of an Application by Otay Water District for Issuance of a Presidential Permit Authorizing the Construction, Connection, Operation, and Maintenance of a Cross-Border Pipeline Facility for the Importation of Desalinated Water on the Border of the United States and Mexico

AGENCY: Department of State.

ACTION: Notice of Receipt of an Application by Otay Water District for Issuance of a Presidential Permit Authorizing the Construction, Connection, Operation, and Maintenance of a Cross-border Pipeline Facility for the Importation of Desalinated Water on the Border of the United States and Mexico.

SUMMARY: Notice is hereby given that on November 25, 2013, the Department of State (DOS) received notice from the Otay Water District (“Otay Water”) that it seeks a Presidential Permit authorizing the construction, connection, operation, and maintenance of a cross-border pipeline facility for the importation of desalinated seawater on the border of the United States and Mexico in San Diego County, California. The Department will be working with Otay Water to conduct environmental analyses consistent with the National Environmental Policy Act (“NEPA”) and the California Environmental Quality Act (“CEQA”) for the Otay Mesa Conveyance System Project that would convey desalinated seawater from the new border crossing approximately four miles northeast to Otay Water's Roll Reservoir in San Diego County (“the Project”). The Project would provide a new water supply source from the U.S.-Mexico border to Otay Water's potable water system and ultimately delivered to end-user customers in the United States which Otay Water contends will reduce the strain and demand on the overall region's limited water supply.”

Under E.O. 11423, as amended, the Secretary of State is designated and empowered to receive all applications for Presidential Permits for the construction, connection, operation, or maintenance at the borders of the United States of facilities for the exportation or importation of water or sewage to or from a foreign country. The Department of State has the responsibility to determine whether issuance of a new Presidential Permit in light of Otay Water's application would serve the U.S. national interest.

Otay Water's application is available at http://www.state.gov/e/enr/applicant.

FOR FURTHER INFORMATION CONTACT: Office of Environmental Quality, Oceans, Environment and Science Bureau (OES/EQT), Department of State, 2201 C St. NW., Ste. 2727, Washington, DC 20520, Attn: Mary Hassell, Tel: 202-736-7428.

Dated: April 24, 2014.
Michael Brennan,
Energy Officer, Office of Europe, Western Hemisphere and Africa, Bureau of Energy Resources, U.S. Department of State.

[FR Doc. 2014-10006 Filed 4-30-14; 8:45 am]

BILLING CODE 4710-09-P